DEPARTMENT OF HEALTH AND HUMAN SERVICES

Office of Public Health and Science; National Action Plan on Overweight and Obesity: Notice of Opportunity for Public Comment; Notice of Public Meeting

Correction

In notice document 00-28642 beginning on page 67011 in the issue of Wednesday, November 8, 2000, make the following corrections.

1. On page 67011, in the third column, the subject heading should read as set forth above.

2. On page 67012, in the first column, under FOR FURTHER INFORMATION CONTACT, four lines from the bottom, “www.sbogesity.niddk.nih.gov” should read “www.sgogesity.niddk.nih.gov”

3. On the same page, in the second column, under Written Comments, in the last paragraph, in the first line “26” should read “27”.

[FR Doc. C0-28642 Filed 11-20-00; 8:45 am]

BILLING CODE 1505-01-D

DEPARTMENT OF HEALTH AND HUMAN SERVICES

Food and Drug Administration

[Docket No. 00D-1563]

Draft Guidance for Industry on Carcinogenicity Study Protocol Submissions; Availability

Correction

In notice document 00-28521 appearing on page 66757, in the issue of Tuesday, November 7, 2000, make the following correction:

On page 66757, in the second column, under the heading DATES: , in the second line, “ February 5, 2000” should read “ February 5, 2001”.

[FR Doc. C0-28521 Filed 11-20-00; 8:45 am]

BILLING CODE 1505-01-D

DEPARTMENT OF THE INTERIOR

National Park Service

Notice of Inventory Completion for Native American Human Remains and Associated Funerary Objects in the Control of the Bureau of Indian Affairs, Washington, DC, and in the Possession of the University of Denver Department of Anthropology and Museum of Anthropology, Denver, CO

Correction

In notice document 00-28860 beginning on page 67759 in the issue of Monday, November 13, 2000, make the following correction:

On page 67760 in the third column, in the first full paragraph, in the 13th line from the bottom “[thirty days after publication in the Federal Register]” should read “December 13, 2000”.

[FR Doc. C0-28860 Filed 11-20-00; 8:45 am]

BILLING CODE 1505-01-D

SECURITIES AND EXCHANGE COMMISSION

[Release No. 34-43514; No. SR-NASD-99-53]

Self-Regulatory Organizations; Notice of Filing of Amendment No. 8 to Proposed Rule Change by the National Association of Securities Dealers, Inc. Relating to the Establishment of Nasdaq Order Display Facility and to Modifications of Nasdaq Trading Platform

Correction

In notice document 00-29020 beginning on page 69084 in the issue of Wednesday, November 15, 2000, make the following correction:

On page 69109, in the second column, in the first paragraph, in the second to last line “[insert date 21 days from the date of publication]” should read “December 6, 2000”.

[FR Doc. C0-29020 Filed 11-20-00; 8:45 am]

BILLING CODE 1505-01-D